DEPARTMENT OF ENERGY

Federal Energy Regulatory Commission

Combined Notice of Filings #1

Take notice that the Commission received the following electric rate filings:

Docket Numbers: ER11-3643-000.

Applicants: PacifiCorp.

Description: Report Filing: FERC Audit Refund Report to be effectiveN/A.

Filed Date: 3/23/18.

Accession Number: 20180323-5024.

Comments Due: 5 p.m. ET 4/13/18.

Docket Numbers: ER17-419-005.

Applicants: Transource Pennsylvania, LLC, Transource Maryland, LLC, PJM Interconnection, L.L.C.

Description: Compliance filing: Transource PA and MD submit Amendments to 1/1/18 Compliance Filing in ER17-419 to be effective2/1/2017.

Filed Date: 3/23/18.

Accession Number: 20180323-5115.

Comments Due: 5 p.m. ET 4/13/18.

Docket Numbers: ER18-836-000.

Applicants: Energia Sierra Juarez 2 U.S., LLC.

Description: Supplement to February 9, 2018 Energia Sierra Juarez U.S. 2, LLC tariff filing (Corrected Attachment B).

Filed Date: 3/22/18.

Accession Number: 20180322-5291.

Comments Due: 5 p.m. ET 4/2/18.

Docket Numbers: ER18-1162-000.

Applicants: Orange and Rockland Utilities, Inc.

Description: § 205(d) Rate Filing: Attachment J—Municipal Underground Surcharge Revision to be effective4/1/2018.

Filed Date: 3/22/18.

Accession Number: 20180322-5281.

Comments Due: 5 p.m. ET 4/12/18.

Docket Numbers: ER18-1163-000.

Applicants: Avista Corporation.

Description: § 205(d) Rate Filing: Avista Corp NITSA SA T-1092 Low Voltage Facilities Revisions to be effective 4/1/2018.

Filed Date: 3/23/18.

Accession Number: 20180323-5025.

Comments Due: 5 p.m. ET 4/13/18.

Docket Numbers: ER18-1165-000.

Applicants: Shoreham Solar Commons LLC.

Description: § 205(d) Rate Filing: Amendments to MBR Tariff to Reflect Affiliation to be effective 3/7/2018.

Filed Date: 3/23/18.

Accession Number: 20180323-5027.

Comments Due: 5 p.m. ET 4/13/18.

Docket Numbers: ER18-1166-000.

Applicants: Wisconsin Public Service Corporation.

Description: § 205(d) Rate Filing: Filing of Amended and Restated Service Agreement with MG&E to be effective1/1/2018.

Filed Date: 3/23/18.

Accession Number: 20180323-5091.

Comments Due: 5 p.m. ET 4/13/18.

Docket Numbers: ER18-1167-000.

Applicants: Nevada Power Company.

Description: Compliance filing: OATT Revisions Attachments N-v6 and O-v8 to be effective 5/15/2018.

Filed Date: 3/23/18.

Accession Number: 20180323-5097.

Comments Due: 5 p.m. ET 4/13/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 23, 2018.
Nathaniel J. Davis, Sr.,
Deputy Secretary.

[FR Doc. 2018-06621 Filed 3-30-18; 8:45 am]

BILLING CODE 6717-01-P